DEPARTMENT OF VETERANS AFFAIRS

38 CFR Part 21

RIN 2900-AS14

Veteran Readiness and Employment Program: Delegation of Concurrence for Entitlement Extensions

AGENCY: Department of Veterans Affairs.

ACTION: Final rule.

SUMMARY: The Department of Veterans Affairs (VA) is amending its regulations to authorize VA Regional Office (RO) Veteran Readiness and Employment Officers (VREO) to delegate their concurrence authority to extend a Veteran's entitlement to a rehabilitation program. The inability to delegate can delay the delivery of services if a VREO is unexpectedly out of the office for an extended period. A delegation of authority for entitlement extensions would follow other established procedures that allow for delegation of authority to a designee.

DATES: This rule is effective August 16, 2024.

FOR FURTHER INFORMATION CONTACT: Loraine Spangler, Policy Analyst, Veteran Readiness and Employment Services (28), 810 Vermont Avenue NW, Washington, DC 20420, loraine.spangler@va.gov, 202-461-9600. (This is not a toll-free telephone number.)

SUPPLEMENTARY INFORMATION: VA is amending 38 CFR 21.78(d) to authorize VREOs to delegate their concurrence authority to extend a Veteran's entitlement to a rehabilitation program. The lack of authority to delegate can delay the delivery of services if a VREO is out of the office for an extended period. A delegation of authority for entitlement extensions would follow other established procedures that allow for delegation of authority to a designee.

The total period a Veteran may participate in a Veteran Readiness and Employment rehabilitation program under chapter 31 alone may not exceed 48 months; however, there are situations when VA may extend a Veteran's entitlement to meet their individual needs. This is not automatically granted, and the Veteran must meet established criteria. Currently, only a VREO can provide the required concurrence for an extension that will exceed the 48-month limitation.

VA has general delegation authority under 38 U.S.C. 512(a). This amendment aligns with 38 U.S.C. 3105(b), will decrease approval times for entitlement extensions, and will allow for more timely services to Veterans.

Administrative Procedure Act

The Secretary of Veterans Affairs finds that there is good cause under the Administrative Procedure Act (APA) to publish this rule without prior opportunity for public comment and with an immediate effective date. Pursuant to 5 U.S.C. 553(b)(B), general notice and opportunity for public comment are not required with respect to a rulemaking when an “agency for good cause finds (and incorporates the finding and a brief statement of reasons therefor in the rules issued) that notice and public procedure thereon are impracticable, unnecessary, or contrary to the public interest.” The Secretary finds that it is unnecessary to delay issuance of this rule for the purpose of soliciting prior public comment. This final rule will neither amend the substantive content of the regulation cited nor have a substantive impact on the public. Rather, the delegation of authority in 38 CFR 21.78(d) is procedural in nature and within VA's general delegation authority under 38 U.S.C. 512(a). Consequently, this rule is exempt from the notice-and-comment requirement as a rule of agency organization, procedure, or practice pursuant to 5 U.S.C. 553(b)(A).

The APA also requires a 30-day delayed effective date, except for “(1) a substantive rule which grants or recognizes an exemption or relieves a restriction; (2) interpretative rules and statements of policy; or (3) as otherwise provided by the agency for good cause found and published with the rule.” 5 U.S.C. 553(d). For the reasons stated above, the Secretary finds that there is also good cause for this rule to be effective immediately upon publication. Any delay in implementation would be unnecessary for purposes of 5 U.S.C. 553(d)(3).

Executive Orders 12866, 13563, and 14094

Executive Order 12866 (Regulatory Planning and Review) directs agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 14094 (Executive Order on Modernizing Regulatory Review) supplements and reaffirms the principles, structures, and definitions governing contemporary regulatory review established in Executive Order 12866 of September 30, 1993 (Regulatory Planning and Review), and Executive Order 13563 of January 18, 2011 (Improving Regulation and Regulatory Review). The Office of Information and Regulatory Affairs has determined that this rulemaking is not a significant regulatory action under Executive Order 12866, as amended by Executive Order 14094. The Regulatory Impact Analysis associated with this rulemaking can be found as a supporting document at www.regulations.gov.

Regulatory Flexibility Act

The Regulatory Flexibility Act, 5 U.S.C. 601-612, is not applicable to this rulemaking because notice of proposed rulemaking is not required. 5 U.S.C. 601(2), 603(a), 604(a).

Unfunded Mandates

The Unfunded Mandates Reform Act of 1995 requires, at 2 U.S.C. 1532, that agencies prepare an assessment of anticipated costs and benefits before issuing any rule that may result in the expenditure by state, local, and tribal governments, in the aggregate, or by the private sector, of $100 million or more (adjusted annually for inflation) in any one year. This final rule will have no such effect on state, local, and tribal governments, or on the private sector.

Paperwork Reduction Act

This final rule contains no provisions constituting a collection of information under the Paperwork Reduction Act of 1995 (44 U.S.C. 3501-3521).

Congressional Review Act

Pursuant to subtitle E of the Small Business Regulatory Enforcement Fairness Act of 1996 (known as the Congressional Review Act) (5 U.S.C. 801 et seq.), the Office of Information and Regulatory Affairs designated this rule as not satisfying the criteria under 5 U.S.C. 804(2).

List of Subjects in 38 CFR Part 21

Administrative practice and procedure, Armed forces, Civil rights, Claims, Colleges and universities, Conflict of interests, Defense Department, Education, Employment, Grant programs—education, Grant programs—Veterans, Health care, Loan programs—education, Loan programs—Veterans, Manpower training programs, Reporting and recordkeeping requirements, Schools, Travel and transportation expenses, Veterans, Vocational education, Veteran readiness.

Signing Authority

Denis McDonough, Secretary of Veterans Affairs, approved this document on August 13, 2024, and authorized the undersigned to sign and submit the document to the Office of the Federal Register for publication electronically as an official document of the Department of Veterans Affairs.

Luvenia Potts,
Regulations Development Coordinator, Office of Regulation Policy & Management, Office of General Counsel, Department of Veterans Affairs.

For the reasons stated in the preamble, the Department of Veterans Affairs is amending 38 CFR part 21 as set forth below:

PART 21—VETERAN READINESS AND EMPLOYMENT AND EDUCATION

Subpart A—Veteran Readiness and Employment

1. The authority citation for part 21, subpart A continues to read as follows:

Authority: 38 U.S.C. 501(a), chs. 18, 31, and as noted in specific sections.

§ 21.78 [Amended]

2. Amend § 21.78, in paragraph (d), by adding in the first sentence, after the word “Officer”, the words “or designee”.

[FR Doc. 2024-18419 Filed 8-15-24; 8:45 am]

BILLING CODE 8320-01-P